DEPARTMENT OF EDUCATION

Reading First Advisory Committee; Notice of Meeting

AGENCY: Department of Education, Office of Elementary and Secondary Education.

ACTION: Notice of Open Teleconference Meeting.

SUMMARY: This notice announces an open meeting of the Reading First Advisory Committee. Notice of the meeting is required by Section 10(a)(2) of the Federal Advisory Committee Act and is intended to notify the public of their opportunity to attend.

DATE AND TIME: September 24, 2007, 11 a.m. until 1 p.m., Eastern Standard Time. This notice is appearing in the Federal Register less than 15 days prior to the open telephone meeting to help ensure that FY 2006 Reading First funds, which would be awarded to Puerto Rico if its application is approved, do not lapse. These funds are available for Federal obligation only through September 30, 2007.

ADDRESSES: The meeting will take place via telephone conference call. The public may access this meeting by dialing the telephone number that will be available on the Reading First Web site at http://www.ed.gov/programs/readingfirst/advisory.html.

FOR FURTHER INFORMATION CONTACT: Deborah Spitz, Designated Federal Officer, Reading First Advisory Committee; 400 Maryland Avenue, SW., Washington, DC 20202; telephone: (202) 260-3793; fax: (202) 260-8969; e-mail: Deborah.Spitz@ed.gov.

SUPPLEMENTARY INFORMATION: The Reading First Advisory Committee is authorized by Sections 1203(c)(2)(a) and 1202(e)(2) of the Elementary and Secondary Education Act (ESEA) of 1965, as amended. The Committee is established within the U.S. Department of Education (Department) to evaluate Reading First applications submitted by States, to review the progress reports that States submit after the third year of the grant period, to advise on the awarding of Targeted Assistance Grants, and to advise the Secretary on other issues that the Secretary deems appropriate.

At the meeting on August 22, 2007, the Committee discussed Puerto Rico's Reading First application and recommended that the Department disapprove Puerto Rico's application on the basis that Puerto Rico did not adequately address certain application requirements. The Committee made specific recommendations for improving the application, which the Department provided to Puerto Rico. Puerto Rico is revising its application to address the Committee's concerns.

At the September 24, 2007 meeting, the Committee will review and discuss the revisions that Puerto Rico has made to its application and recommend approval or disapproval of the revised application.

Individuals who will need accommodations for a disability in order to access the telephone conference call should notify Deborah Spitz at (202) 260-3793, no later than five (5) days before the scheduled date of the meeting. We will attempt to meet requests for accommodations after this date but cannot guarantee their availability.

Request for Written Comments: Written comments should be submitted via e-mail at least five (5) days prior to the scheduled date of the meeting to Deborah Spitz at Deborah.Spitz@ed.gov. These comments will be shared with the members of the Committee.

Records are kept of all Committee proceedings and are available for public inspection at 400 Maryland Ave. SW., Washington, DC 20202, from the hours of 9 a.m. to 5 p.m., Eastern Standard Time Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Amanda Farris,
Deputy Assistant Secretary, Office of Elementary and Secondary Education.

[FR Doc. E7-17774 Filed 9-7-07; 8:45 am]

BILLING CODE 4000-01-P